DEPARTMENT OF HEALTH AND HUMAN SERVICES

Health Resources and Services Administration

Advisory Committee on Training in Primary Care Medicine and Dentistry; Notice of Meeting

In accordance with section 10(a)(2) of the Federal Advisory Committee Act (Pub. L. 92-463), notice is hereby given of the following meeting:

Name: Advisory Committee on Training in Primary Care, Medicine and Dentistry (ACTPCMD).

Date and Time: May 7, 2008, 8:30 a.m.-4:30 p.m.

Place: Hilton Washington, DC/Rockville Executive Meeting Center, 1750 Rockville Pike, Rockville, Maryland 20852.

Status: The meeting will be open to the public.

Purpose: The Advisory Committee provides advice and recommendations on a broad range of issues dealing with programs and activities authorized under section 747 of the Public Health Service Act as amended by The Health Professions Education Partnership Act of 1998, Public Law 105-392. At this meeting, the Advisory Committee will finish work on its seventh report on the topic of primary care providing a medical/dental home within the health care system and choose a topic for its eighth report. Reports are submitted to Congress and to the Secretary of the Department of Health and Human Services.

Agenda: The meeting on Wednesday, May 7, will begin with opening comments from the Chair of the Advisory Committee and introductory remarks from senior management of the Health Resources and Services Administration. In the plenary session, the Advisory Committee will review and revise various parts of the seventh report on primary care serving as a medical/dental home for individuals and communities. It will give final approval to the report recommendations. On Wednesday afternoon, the Committee will discuss various topics and select a topic for its eighth report. It will determine next steps in the report preparation process. An opportunity will be provided for public comment.

Supplementary Information: The ACTPCMD will join the Council on Graduate Medical Education (COGME), the National Advisory Council on Nurse Education and Practice (NACNEP), and the Advisory Committee on Interdisciplinary, Community-Based Linkages (ACICBL) on May 8, 2008, for the first Bureau of Health Professions (BHPr) All Advisory Committee Meeting. Please refer to the Federal Register notice for the BHPr All Advisory Committee Meeting for additional details.

For Further Information Contact: Anyone interested in obtaining a roster of members or other relevant information should write or contact Jerilyn K. Glass, M.D., PhD, Division of Medicine and Dentistry, Bureau of Health Professions, Health Resources and Services Administration, Room 9A-27, Parklawn Building, 5600 Fishers Lane, Rockville, Maryland 20857, Telephone (301) 443-6785. The Web address for information on the Advisory Committee is http://bhpr.hrsa.gov/medicine-dentistry/actpcmd.

Dated: April 3, 2008.
Alexandra Huttinger,
Director, Division of Policy Review and Coordination.

[FR Doc. E8-7590 Filed 4-9-08; 8:45 am]

BILLING CODE 4165-15-P